FEDERAL COMMUNICATIONS COMMISSION

Public Information Collection Requirement Submitted to OMB for Emergency Review and Approval

April 25, 2007.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 4, 2007. If you anticipate that you will be submitting comments, but find it difficult to do so within the period of time allowed by this notice, you should advise the contacts listed below as soon as possible.

ADDRESSES: Direct all PRA comments to Jasmeet K. Seehra, Office of Management and Budget (OMB), Room 10236 NEOB, Washington, DC 20503, (202) 395-3123, or via fax at (202) 395-5167 or via Internet at Jasmeet_K._Seehra@omb.eop.gov and to Cathy Williams, Federal Communications Commission, Room 1-C823, 445 12th Street, SW., Washington, DC. If you would like to obtain or view a copy of this information collection, you may do so by visiting the FCC PRA Web page at: http://www.fcc.gov/omd/pra.

FOR FURTHER INFORMATION CONTACT: For additional information or copies of the information collection(s), contact Cathy Williams at (202) 418-2918 or via the Internet at PRA@fcc.gov.

SUPPLEMENTARY INFORMATION: The Commission is requesting emergency OMB processing of this information collection and has requested OMB approval by May 8, 2007.

OMB Control Number: 3060-XXXX.

Title: How People Get News and Information—Media Ownership Study 1.

Form No.: Not applicable.

Type of Review: New collection.

Respondents: Individuals or household.

Number of Respondents: 3,000 respondents; 3,000 responses.

Estimated Time per Response: 0.25-0.3333333 hours (15 to 20 minutes).

Frequency of Response: One time reporting requirement.

Obligation to Respond: Voluntary.

Total Annual Burden: 1,000 hours.

Total Annual Cost: $58,000.

Nature and Extent of Confidentiality: An assurance of confidentiality is not offered because this information collection does not require the collection of personal identifiable information (PII) from individuals.

Privacy Act Impact Assessment: Not applicable.

Needs and Uses: The Commission is seeking emergency processing of this information collection by May 8, 2007.

This collection is part of the Commission's on-going review of its media ownership rules. This review began in June 2006 when the Commission opened a new phase of a rulemaking proceeding that concerns its major broadcast ownership rules.

In July 2006 the Commission began to seek comment on how to address the issues raised by the opinion of the U.S. Court of Appeals for the Third Circuit in Prometheus v. FCC and on whether the media ownership rules are “necessary in the public interest as the result of competition.” The Commission has six broadcast ownership rules (the national television multiple ownership rule, the local television multiple ownership rule, the radio/television cross-ownership rule, the dual network rule, the local radio ownership rule, and the newspaper/broadcast cross-ownership rule) that the public was invited to comment on.

The Commission particularly asked commenters to address the impact of various ownership rules on minorities, women, and small businesses. We also urged commenters to discuss the potential effects, if any, of the broadcast ownership rules currently in effect, and the effect of any changes on advertising markets, the ability of independent stations to compete, the availability of family-friendly and children's programming, the amount of indecent and/or violent content broadcast over-the-air, and the availability of independent programming.

Congress has also indicated a high level of interest in the topic of media ownership. One evidence of this is an August 1, 2006, letter to Chairman Martin that was signed by 84 members of the House of Representatives. These members expressed their view that “access to diverse sources of information is necessary to maintain the informed citizenry that is crucial to a functioning democracy.” And, they encouraged the Commission “to invite the greatest level of public participation possible in your deliberation of new ownership rules.” To do this the Commission decided to hold public hearings on this topic and conducted such hearings in Los Angeles (October 2006), Nashville (December 2006), Harrisburg, PA (February 2007). A public hearing will be held in Tampa on April 30, 2007, and additional public meetings are also planned.

Finally, to supplement the information received from the public and Congress, the Commission also decided (November 2006) to sponsor ten economic studies on media ownership rules. This information collection relates to the first of these studies—“How People Get News and Information.” This study will be conducted by Nielsen Media Research under contract to the Commission. It will be conducted as a phone survey of 3,000 consumers and will ask questions about their use of media. It will identify consumers' primary, secondary, and tertiary sources of news and information; whether these sources change depending on the time of day or day of the week; and the frequency with which consumers access these sources.

Understanding whether consumers rely most heavily on traditional broadcast and print media outlets versus newer media sources such as the Internet will help the Commission fully understand the realities of today's market. This will allow the Commission, the Administration, and Congress to make decisions on media ownership based on current, on-the-ground realities and not on old assumptions. Because of the rapid change in the media arena in just the past 12 months, relying on data collected more than a few months ago—much less data gathered years ago—would likely produce a picture of media use that bears little resemblance to current reality. Failure to gather this information in a timely way can lead to a misinformed Commission, Congress, and public—leading to the possibility of inappropriate or ineffective public policy. The complete OMB submission may be found on the RegInfo.Gov Web site which is located at http://www.reginfo.gov/public/do/PRAMain. Those interested in reading this collection should select the Federal Communications Commission in the “Currently Under Review” section of this web page. Interested parties should then look for the new, unnumbered collection that is named “How People Get News and Information—Media Ownership Study 1.” Alternatively, interested parties can also look for the collection of this name on the Commission's PRA Web site at http://www.fcc.gov/omd/pra/.

Federal Communications Commission.
Marlene H. Dortch,
Secretary.

[FR Doc. E7-8193 Filed 4-26-07; 8:45 am]

BILLING CODE 6712-01-P